DEPARTMENT OF DEFENSE

Office of the Secretary

[Transmittal No. 25-1A]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1A.

Dated: January 16, 2026.
Stephanie J. Bost,
Alternate OSD Federal Register Liaison Officer, Department of Defense.

BILLING CODE 6001-FR-P

BILLING CODE 6001-FR-C

Transmittal No. 25-1A

REPORT OF ENHANCEMENT OR UPGRADE OF SENSITIVITY OF TECHNOLOGY OR CAPABILITY (SEC. 36(B)(5)(C), AECA)

(i) Prospective Purchaser: Government of Italy

(ii) Sec. 36(b)(1), AECA Transmittal No.: 24-18

Date: March 15, 2024

Implementing Agency: Navy

(iii) Description: On March 15, 2024, Congress was notified by congressional certification transmittal number 24-18 of the possible sale, under Section 36(b)(1) of the Arms Export Control Act, of sixty-six (66) AIM-9X Sidewinder Block II+ Tactical Missiles; seven (7) AIM-9X Block II+ tactical guidance units; twenty-four (24) AIM-9X captive air training missiles (CATM); and four (4) AIM-9X CATM guidance units. Also included were active optical target detectors; containers; personnel training and training equipment; classified and unclassified publications and technical documents; warranties; United States (U.S.) Government engineering, technical, and logistics support services; and other related elements of logistics and program support. The estimated total case value was $90.6 million. Major Defense Equipment (MDE) constituted $63.2 million of this total.

This transmittal notifies the inclusion of the following additional MDE items: up to one hundred (100) AIM-9X Sidewinder Block II+ tactical missiles and up to thirty-one (31) AIM-9X Sidewinder Block II CATMs. The following non-MDE items are also included: missile containers; spare parts; associated support; and other related elements of logistics and program support. The estimated total cost of the new items is $119.8 million. The estimated MDE value will increase by $96.2 million to a revised $159.4 million. The estimated non-MDE value will increase by $23.6 million to a revised $51 million. The estimated total case value will increase by $119.8 million to a revised 210.4 million.

(iv) Significance: The proposed sale will improve Italy's capability to meet current and future threats by providing missiles and CATMs for its F-35 fleet.

(v) Justification: This proposed sale will support the foreign policy and national security objectives of the U.S. by improving the security of a NATO Ally that is a force for political stability and economic progress in Europe.

(vi) Sensitivity of Technology:

The Sensitivity of Technology Statement contained in the original notification applies to items reported here.

The highest level of classification of defense articles, components, and services included in this potential sale is SECRET.

(vii) Date Report Delivered to Congress: August 22, 2025

[FR Doc. 2026-01130 Filed 1-21-26; 8:45 am]

BILLING CODE 6001-FR-P